DEPARTMENT OF HOMELAND SECURITY

Federal Emergency Management Agency

[Docket ID FEMA-2025-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Risk Analysis, Planning & Information Directorate, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

The current effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Kristin E. Fontenot,
Assistant Administrator, Risk Analysis, Planning & Information Directorate, Federal Emergency Management Agency, Department of Homeland Security.

—
State and county | Location and case No. | Chief executive officer of community | Community map repository | Date of modification | Community No.
Arizona:
Maricopa (FEMA Docket No.: B-2488). | City of Phoenix (23-09-0361P). | The Honorable Kate Gallego, Mayor, City of Phoenix, 200 West Washington Street, Phoenix, AZ 85003. | City Hall, 200 West Washington Street, Phoenix, AZ 85003. | Mar. 7, 2025 | 040051
Maricopa (FEMA Docket No.: B-2488). | Town of Paradise Valley (23-09-0361P). | The Honorable Jerry Bien-Willner, Mayor, Town of Paradise Valley, 6401 East Lincoln Drive, Paradise Valley, AZ 85253. | Town Hall, 6401 East Lincoln Drive, Paradise Valley, AZ 85253. | Mar. 7, 2025 | 040049
Pinal (FEMA Docket No.: B-2488). | City of Apache Junction (24-09-0270P). | The Honorable Chip Wilson, Mayor, City of Apache Junction, 300 East Superstition Boulevard, Apache Junction, AZ 85119. | City Hall, 300 East Superstition Boulevard, Apache Junction, AZ 85119. | Mar. 6, 2025 | 040120
California:
Orange (FEMA Docket No.: B-2479). | City of San Juan Capistrano (24-09-0140P). | The Honorable Sergio Farias, Mayor, City of San Juan Capistrano, 30448 Rancho Viejo Road, Suite 110, San Juan Capistrano, CA 92675. | City Hall, 30448 Rancho Viejo Road, Suite 110, San Juan Capistrano, CA 92675. | Feb. 28, 2025 | 060231
San Joaquin (FEMA Docket No.: B-2488). | City of Lathrop (24-09-0243P). | The Honorable Sonny Dhaliwal, Mayor, City of Lathrop, 390 Town Center Drive, Lathrop, CA 95330. | City Hall, 390 Town Center Drive, Lathrop, CA 95330. | Mar. 13, 2025 | 060738
Ventura (FEMA Docket No.: B-2488). | City of Santa Paula (24-09-0113P). | Dan Singer, Manager, City of Santa Paula, 970 Ventura Street, Santa Paula, CA 93060. | Public Works Department, 866 East Main Street, Santa Paula, CA 93060. | Mar. 6, 2025 | 060420
Ventura (FEMA Docket No.: B-2488). | Unincorporated areas of Ventura County (24-09-0113P). | Kelly Long, Chair, Ventura County Board of Supervisors, 1203 Flynn Road, Suite 220, Camarillo, CA 93012. | Ventura County, Government Center Hall of Administration, 800 South Victoria Avenue, Ventura, CA 93009. | Mar. 6, 2025 | 060413
Colorado:
Arapahoe (FEMA Docket No.: B-2479). | City of Aurora (23-08-0696P). | The Honorable Mike Coffman, Mayor, City of Aurora, 15151 East Alameda Parkway, Aurora, CO 80012. | Engineering Department, 15151 East Alameda Parkway, Aurora, CO 80012. | Feb. 28, 2025 | 080002
Arapahoe (FEMA Docket No.: B-2479). | City of Centennial (23-08-0696P). | The Honorable Stephanie Piko, Mayor, City of Centennial, 13133 East Arapahoe Road, Centennial, CO 80112. | Southeast Metro, Stormwater Authority, 7437 South Fairplay Street, Centennial, CO 80112. | Feb. 28, 2025 | 080315
Arapahoe (FEMA Docket No.: B-2479). | Unincorporated areas of Arapahoe County (23-08-0696P). | Carrie Warren-Gully, Chair, Arapahoe County Board of Commissioners, 5334 South Prince Street, Littleton, CO 80120. | Arapahoe County, Public Works and Development Department, 6924 South Lima Street, Centennial, CO 80112. | Feb. 28, 2025 | 080011
Douglas (FEMA Docket No.: B-2488). | Town of Castle Rock (24-08-0008P). | The Honorable Jason Gray, Mayor, Town of Castle Rock, 100 North Wilcox Street, Castle Rock, CO 80104. | Water Administration Building, 175 Kellogg Court, Castle Rock, CO 80104. | Mar. 21, 2025 | 080050
Douglas (FEMA Docket No.: B-2488). | Unincorporated areas of Douglas County (24-08-0008P). | George Teal Chair, Douglas County Board of County Commissioners, 100 3rd Street, Castle Rock, CO 80104. | Douglas County, Public Works Department, 100 3rd Street, Castle Rock, CO 80104. | Mar. 21, 2025 | 080049
Jefferson (FEMA Docket No.: B-2488). | Unincorporated areas of Jefferson County (24-08-0337P). | Lesley Dahlkemper, Chair, Jefferson County Board of Commissioners, 100 Jefferson County Parkway, Suite 5550 Golden, CO 80419. | Jefferson County, Planning and Zoning Division, 100 Jefferson County Parkway, Suite 3550 Golden, CO 80419. | Mar. 28, 2025 | 080087
Florida:
Clay (FEMA Docket No.: B-2488). | Unincorporated areas of Clay County (24-04-3312P). | Jim Renninger, Chair, Clay County Board of Commissioners, P.O. Box 1366, Green Cove Springs, FL 32043. | Clay County, Administration Building, 477 Houston Street, 3rd Floor, Green Cove Springs, FL 32043. | Apr. 4, 2025 | 120064
Orange (FEMA Docket No.: B-2488). | City of Orlando (24-04-6931P). | The Honorable Buddy Dyer, Mayor, City of Orlando, 400 South Orange Avenue, Orlando, FL 32801. | Public Works Department, Engineering Division, 400 South Orange Avenue, 8th Floor, Orlando, FL 32801. | Apr. 7, 2025 | 120186
Palm Beach (FEMA Docket No.: B-2488). | Unincorporated areas of Palm Beach County (24-04-4466P). | Verdenia C. Baker, Administrator, Palm Beach County, 301 North Olive Avenue, Suite 1101, West Palm Beach, FL 33411. | Palm Beach County, Vista Center, Building Division, 2300 North Jog Road, Vista Center, 1st Floor 1E-17, West Palm Beach, FL 33401. | Apr. 3, 2025 | 120192
Sarasota (FEMA Docket No.: B-2488). | City of Venice (24-04-3479P). | The Honorable Nick Pachota, Mayor, City of Venice, 401 West Venice Avenue, Venice, FL 34285. | Engineering Department, 401 West Venice Avenue, Venice, FL 34285. | Mar. 31, 2025 | 125154
Sarasota (FEMA Docket No.: B-2488). | Unincorporated areas of Sarasota County (24-04-3479P). | Michael A. Moran Chair, Sarasota County Board of Commissioners, 1660 Ringling Boulevard, Sarasota, FL 34236. | Sarasota County, Planning and Development Services Department, 1001 Sarasota Center Boulevard, Sarasota, FL 34240. | Mar. 31, 2025 | 125144
Illinois:
Will (FEMA Docket No.: B-2501). | City of Aurora (24-05-1559P). | The Honorable Richard C. Irvin, Mayor, City of Aurora, 44 East Downer Place, Aurora, IL 60505. | Engineering Department, 44 East Downer Place, Aurora, IL 60505. | Mar. 27, 2025 | 170320
Will (FEMA Docket No.: B-2501). | City of Naperville (24-05-1559P). | The Honorable Scott A. Wehrli, Mayor, City of Naperville, 400 South Eagle Street, Naperville, IL 60540. | Municipal Center, 400 South Eagle Street, Naperville, IL 60540. | Mar. 27, 2025 | 170213
Will (FEMA Docket No.: B-2501). | Unincorporated areas of Will County (24-05-1559P). | Jennifer Bertino-Tarrant, Will County Executive, 302 North Chicago Street, Joliet, IL 60432. | Will County, Land Use Department, 58 East Clinton Street, Suite 100, Joliet, IL 60432. | Mar. 27, 2025 | 170695
Will (FEMA Docket No.: B-2501). | Village of Plainfield (24-05-1559P). | John Argoudelis, President, Village of Plainfield, 24401 West Lockport Street, Plainfield, IL 60544. | Village Hall, 24401 West Lockport Street, Plainfield, IL 60544. | Mar. 27, 2025 | 170771
North Carolina:
Wake (FEMA Docket No.: B-2501). | Town of Garner (24-04-2906P). | The Honorable Buddy Gupton, Mayor, Town of Garner 900 7th Avenue, Garner, NC 27529. | Planning Department, 900 7th Avenue, Garner, NC 27529. | Apr. 22, 2025 | 370240
Wake (FEMA Docket No.: B-2501). | Unincorporated Areas of Wake County (24-04-2906P). | Susan Evans, Chair, Wake County Board of Commissioners, P.O. Box 550, Raleigh, NC 27602. | Wake County, Planning Department, 336 Fayetteville Street, #500, Raleigh, NC 27601. | Apr. 22, 2025 | 370368
Ohio:
Franklin (FEMA Docket No.: B-2488). | City of Columbus (24-05-2037P). | The Honorable Andrew J. Ginther, Mayor, City of Columbus, 90 West Broad Street, Columbus, OH 43215. | City Hall, 1250 Fairwood Avenue, Columbus, OH 43206. | Mar. 31, 2025 | 390170
Franklin (FEMA Docket No.: B-2488). | City of Reynoldsburg (24-05-2037P). | The Honorable Joe Begeny, Mayor, City of Reynoldsburg, 7232 East Main Street, Reynoldsburg, OH 43068. | City Hall, 7232 East Main Street, Reynoldsburg, OH 43068. | Mar. 31, 2025 | 390177
Pennsylvania:
Montgomery (FEMA Docket No.: B-2501). | Township of Lower Moreland (24-03-0069P). | Denise A. Kuritz, President, Township of Lower Moreland Board of Commissioners, 640 Red Lion Road, Huntingdon Valley, PA 19006. | Township Hall, 640 Red Lion Road, Huntingdon Valley, PA 19006. | Apr. 7, 2025 | 420702
South Dakota: Pennington (FEMA Docket No.: B-2488). | City of Rapid City (24-08-0254P). | The Honorable Jason Salamun, Mayor, City of Rapid City, 300 6th Street, Rapid City, SD 57701. | Engineering Department, 300 6th Street, Rapid City, SD 57701. | Apr. 2, 2025 | 465420
Texas:
Bexar (FEMA Docket No.: B-2506). | City of Helotes (23-06-1989P). | The Honorable Rich Whitehead, Mayor, City of Helotes, P.O. Box 507, Helotes, TX 78023. | City Hall, 12951 Bandera Road, Helotes, TX 78023. | Apr. 7, 2025 | 481643
Bexar (FEMA Docket No.: B-2506). | Unincorporated areas of Bexar County (24-06-0195P). | The Honorable Peter Sakai, Bexar County Judge, 101 West Nueva Street, 10th Floor, San Antonio, TX 78205. | Bexar County, Public Works Department, 1948 Probandt Street, San Antonio, TX 78214. | Apr. 7, 2025 | 480035
Dallas (FEMA Docket No.: B-2506). | City of Dallas (24-06-0429P). | Kimberly Bizor Tolbert, Manager, City of Dallas, 1500 Marilla Street, Room 4EN, Dallas, TX 75201. | City Hall, 1500 Marilla Street, Dallas, TX 75201. | Apr. 7, 2025 | 480171
Midland (FEMA Docket No.: B-2488). | City of Midland (24-06-2101P). | The Honorable Lori Blong, Mayor, City of Midland, 300 North Loraine Street, Midland, TX 79701. | Engineering Department, 300 North Loraine Street, 5th Floor, Midland, TX 79701. | Apr. 2, 2025 | 480477
Midland (FEMA Docket No.: B-2488). | Unincorporated areas of Midland County (23-06-2576P). | The Honorable Terry Johnson, Midland County Judge, 500 North Loraine Street, Suite 1100, Midland, TX 79701. | Midland County, Public Works Department, 500 North Loraine Street, Suite 1100, Midland, TX 79701. | Mar. 31, 2025 | 481239
Midland (FEMA Docket No.: B-2488). | Unincorporated areas of Midland County (24-06-2101P). | The Honorable Terry Johnson, Midland County Judge, 500 North Loraine Street, Suite 1100, Midland, TX 79701. | Midland County, Public Works Department, 500 North Loraine Street, Suite 1100, Midland, TX 79701. | Apr. 2, 2025 | 481239
Tarrant (FEMA Docket No.: B-2488). | City of Benbrook (24-06-0786P). | James Hinderaker, Manager, City of Benbrook, 911 Winscott Road, Benbrook, TX 76126. | City Hall, 911 Winscott Road, Benbrook, TX 76126. | Apr. 3, 2025 | 480586
Tarrant (FEMA Docket No.: B-2488). | City of Fort Worth (24-06-0786P). | The Honorable Mattie Parker, Mayor, City of Fort Worth, 200 Texas Street, Fort Worth, TX 76102. | Department of Transportation and Public Works, Engineering Vault and Map Repository, 200 Texas Street, Fort Worth, TX 76102. | Apr. 3, 2025 | 480596
Travis (FEMA Docket No.: B-2488). | City of Manor (23-06-2497P). | The Honorable Christopher Harvey, Mayor, City of Manor, P.O. Box 387, Manor, TX 78653. | City Hall, 105 East Eggleston Street, Manor, TX 78653. | Apr. 7, 2025 | 481027
Travis (FEMA Docket No.: B-2488). | Unincorporated areas of Travis County (23-06-2497P). | The Honorable Andy Brown, Travis County Judge, P.O. Box 1748, Austin, TX 78767. | Travis County, Floodplain Management, 700 Lavaca Street, 5th Floor, Austin, TX 78701. | Apr. 7, 2025 | 481026
Williamson (FEMA Docket No.: B-2472) | City of Jarrell (24-06-0042P). | The Honorable Patrick Sherek, Mayor, City of Jarrell, 161 Town Center Boulevard, Jarrell, TX 76537. | City Hall, 161 Town Center Boulevard, Jarrell, TX 76537. | Apr. 4, 2025 | 480111
Utah:
Salt Lake (FEMA Docket No.: B-2479). | City of Herriman City (24-08-0034P). | The Honorable Lorin Palmer, Mayor, City of Herriman City, 5355 West Main Street, Herriman, UT 84096. | City Hall, 5355 West Main Street, Herriman, UT 84096. | Mar. 3, 2025 | 490252
Salt Lake (FEMA Docket No.: B-2479). | Unincorporated areas of Salt Lake County (24-08-0034P). | The Honorable Jenny Wilson, Mayor, Salt Lake County, 2001 South State Street, Suite N2-100, Salt Lake City, UT 84114. | Salt Lake County Government Center, 2001 South State Street, Salt Lake City, UT 84114. | Mar. 3, 2025 | 490102

[FR Doc. 2025-09211 Filed 5-21-25; 8:45 am]

BILLING CODE 9110-12-P